DEPARTMENT OF LABOR

Employment and Training Administration

[TA-W-41,047]

C.G. Bretting Manufacturing Corporation, Inc., Ashland, WI; Notice of Termination of Certification

This notice terminates the Certification Regarding Eligibility to Apply For Worker Adjustment Assistance issued by the Department on June 19, 2002, applicable to workers of C.G. Bretting Manufacturing Corporation, Inc., in Ashland, Wisconsin. The notice was published in the Federal Register on July 9, 2002 (67 FR 45544).

The Department, on its own motion, reviewed the worker certification. Workers at the subject firm produce paper folding machines. The review of the investigation findings show that the survey of C.G. Bretting's major declining customers was conducted for paper holding machines instead of paper folding machines. Another survey was undertaken for the same customers for the same time periods. The survey revealed that none of the customers purchased imported paper folding machines.

Based on this new information, the Department is terminating the certification for petition number TA-W-41,047. Further coverage for workers under this certification would serve no purpose, and the certification has been terminated.

Signed at Washington, DC, this 6th day of August, 2002.
Linda G. Poole,
Certifying Officer, Division of Trade Adjustment Assistance.

[FR Doc. 02-20616 Filed 8-13-02; 8:45 am]

BILLING CODE 4510-30-P